DEPARTMENT OF HEALTH AND HUMAN SERVICES

Office of Public Health Emergency Preparedness (OPHEP); Office of Public Health Emergency Medical Countermeasures (OPHEMC)

AGENCY: Office of Public Health Emergency Preparedness (OPHEP)/Office of Public Health Emergency Medical Countermeasures (OPHEMC), HHS.

ACTION: Notice of meeting.

SUMMARY: The Department of Health and Human Services is pleased to announce the BioShield Stakeholders Workshop. The BioShield Stakeholders Workshop is being convened to provide individual stakeholders with an opportunity to gain insight into the current BioShield interagency governance process and to provide input into the draft HHS Public Health Emergency Medical Countermeasures (PHEMC) Strategy for Chemical, Biological, Radiological, and Nuclear (CBRN) Threats.

DATES: The Workshop will be held on September 25-26, 2006. Pre-registration is available via the Web site shown below. On-site registration will also be possible, space permitting. On-site registration, if offered, will begin at 8 a.m. on September 25. The meeting will begin at 8:30 a.m. and will end at approximately 6 p.m. on both days.

ADDRESSES: The meeting will be held at the Crystal Gateway Marriott, 1700 Jefferson Davis Highway, Arlington, VA 22202. The Crystal Gateway Marriott is located directly above the Crystal City Metro Station on the yellow and blue Metro lines.

Register: Please visit http://www.hhs.gov/ophep/ophemc/ to register online. The deadline for online registration is Monday, September 18, 2006. On-site registration will also be available at the meeting, space permitting. Seating is limited, so register today!

SUPPLEMENTARY INFORMATION: The Department of Health and Human Services is pleased to announce the upcoming HHS BioShield Stakeholders Workshop. The goals of the HHS BioShield Stakeholders Workshop are:

1. To provide its attendees with insight into the current BioShield interagency governance process; and

2. To provide individual stakeholders with an opportunity to help guide the future implementation of Project BioShield by providing input into the draft HHS Public Health Emergency Medical Countermeasures (PHEMC) Strategy for Chemical, Biological, Radiological, and Nuclear (CBRN) Threats.

The draft PHEMC Strategy for CBRN Threats is being developed under the leadership of the Office of Public Health Emergency Medical Countermeasures (OPHEMC) within the Office of Public Health Emergency Preparedness (OPHEP), U.S. Department of Health and Human Services, and will be published in the Federal Register prior to this workshop. This Strategy will define the principles guiding HHS medical countermeasure research, development and acquisition.

The BioShield Stakeholders Workshop will be an open meeting for representatives from the pharmaceutical and biotechnology industries, professional societies, State and local public health organizations, the academic research and development community, public interest groups, stakeholder Federal agencies, and Congress.

The BioShield Stakeholders Workshop is being convened, and the PHEMC Strategy for CBRN Threats is being developed and published, to fulfill the promise that Health and Human Services Secretary Michael O. Leavitt made on March 16, 2006, in his testimony before the Senate Committee on Health, Education, Labor, and Pensions. During his testimony, Secretary Leavitt pledged to:

work closely with other departments and agencies to streamline and make more effective the current BioShield interagency governance process. We will make this process more transparent and work to educate the public and industry about our priorities and opportunities. As part of this, HHS will convene an outreach meeting with these external stakeholders later this year.

OPHEP leads Federal efforts to prepare the nation to prevent and mitigate the health effects of disasters, natural or manmade. As part of this important mission, OPHEMC, within OPHEP, plays a leadership role in the advanced development and acquisition of medical countermeasures, including implementation of the Project BioShield Act of 2004.

The purpose of Project BioShield is to accelerate the research, development, acquisition, and availability of effective medical countermeasures for chemical, biological, radiological, and nuclear (CBRN) threats. The Special Reserve Fund (SRF), a discretionary reserve of $5.6 billion for the advanced development and purchase of priority medical countermeasures over 10 years, was authorized under Project BioShield to support this mission.

For more information regarding the BioShield Stakeholders Workshop, and to register for the Workshop, please visit http://www.hhs.gov/ophep/ophemc/.

Dated: August 15, 2006.
Carol Linden,
Deputy Director, OPHEMC.

[FR Doc. 06-7033 Filed 8-18-06; 8:45 am]

BILLING CODE 4150-31-M